NATIONAL FOUNDATION FOR THE ARTS AND HUMANITIES

Submission for OMB Review, Comment Request, Proposed Collection: General Clearance for Guidelines, Applications, and Reporting Forms

AGENCY: Institute of Museum and Library Services, The National Foundation on the Arts and Humanities.

ACTION: Submission for OMB Review, comment request.

SUMMARY: The Institute of Museum and Library Services announces the following information collection has been submitted to the Office of Management and Budget for review and approval in accordance with the Paperwork Reduction Act (44 U.S.C. Chapter 35). This review helps to ensure that requested data can be provided in the desired format, reporting burden (time and financial resources) is minimized, collection instruments are clearly understood, and the impact of collection requirements on respondents can be properly assessed.

A copy of the proposed information collection request, with applicable supporting documentation, may be obtained by contacting the individual listed below in the ADDRESSES section of this notice.

DATES: Comments must be submitted to the office listed in the Contact section below on or before August 7, 2010.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Kim A. Miller, Management Analyst, Institute of Museum and Library Services, 1800 M Street, NW., 9th Floor, Washington, DC 20036. Telephone: 202-653-4762; Fax: 202-653-4600; or e-mail: kmiller@imls.gov; or by teletype (TTY/TDD) for persons with hearing difficulty at 202-653-4614.

SUPPLEMENTARY INFORMATION: The Institute of Museum and Library Services (IMLS) is an independent Federal grant-making agency and is the primary source of federal support for the Nation's 123,000 libraries and 17,500 museums. IMLS provides a variety of grant programs to assist the Nation's museums and libraries in improving their operations and enhancing their services to the public. (20 U.S.C. 9101 et seq.).

Current Actions: This notice proposes general clearance of the agency's guideline application and report forms. The 60-day Notice for the “Notice of Continuance for General Clearance for Guidelines, Applications, and Reporting Forms” was published in the Federal Register on April 29, 2010 (FR vol. 75, No. 82, pgs. 22631-22632). No comments were received.

Agency: Institute of Museum and Library Services.

Title: IMLS Guidelines, Applications and Reporting Forms.

OMB Number: 3137-0029, 3137-0071.

Agency Number: 3137.

Frequency: Annually, Semi-annually.

Affected Public: State Library Administrative Agencies, museums, libraries, institutions of higher education, library and museum professional associations, and museum and library professionals, Indian tribes (including Alaska native villages, regional corporations, or village corporations), and organizations that primarily serve and represent Native Hawaiians.

Number of Respondents: 6,357

Estimated Time Per Respondent: .08-90 hours

Total Burden Hours: 70,357.

Total Annualized capital/startup costs: 0.

Total Annual Costs: $1,850,383

Contact: Comments should be sent to Office of Information and Regulatory Affairs, Attn.: OMB Desk Officer for Education, Office of Management and Budget, Room 10235, Washington, DC 20503, (202) 395-7316.

Dated: June 30, 2010.
Kim A. Miller,
Management Analyst, Office of Policy, Planning, Research, and Communication.

[FR Doc. 2010-16753 Filed 7-8-10; 8:45 am]

BILLING CODE 7036-01-P